DEPARTMENT OF THE INTERIOR

National Park Service

[NPS-WASO-NRNHL-DTS#-25340; PPWOCRADI0, PCU00RP14.R50000]

National Register of Historic Places; Notification of Pending Nominations and Related Actions

AGENCY: National Park Service, Interior.

ACTION: Notice.

SUMMARY: The National Park Service is soliciting comments on the significance of properties nominated before March 24, 2018, for listing or related actions in the National Register of Historic Places.

DATES: Comments should be submitted by April 27, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 24, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Napa County

Napa County Infirmary, 2344 Old Sonoma Rd., Napa, SG100002380

MONTANA

Fergus County

Lewistown Satellite Airfield Historic District (Boundary Increase IV), Fox Ln. off MT 19, Grass Range vicinity, BC100002382

NEW YORK

Essex County

Gooley Club, Gooley Club Rd., Newcomb vicinity, SG100002383

Nassau County

Hempstead Town Hall, 1 Washington St., Hempstead, SG100002384

Mitchel Air Base and Flight Line, Roughly Charles Lindbergh Blvd., Ellington Ave., East & West Rds., Garden City, SG100002385

New York County

Wilbraham, The, 284 5th Ave., New York, SG100002386

Schoharie County

Jenkins, Daniel Webster, House, 207 Church St., Central Bridge, SG100002387

Suffolk County

Sisters of St. Joseph Motherhouse, Brentwood, 1725 Brentwood Rd., Brentwood, SG100002388

Wading River Radio Station, 408 North Side Rd., Wading River, SG100002389

Ulster County

Pilgrim Furniture Company Factory, 2 S Prospect St., Kingston, SG100002390

VIRGINIA

Amherst County

Emmanuel Baptist Church, 205 Sandidges Rd., Amherst vicinity, SG100002391

WASHINGTON

King County

Lewis, Hannah, House, 2317 13th Avenue East, Seattle, SG100002392

Kitsap County

Yama & Nagaya Village, Near the SW corner of NE Country Club Rd. & Fort Ward Hill Rd. NE, Bainbridge Island, SG100002393

Pend Oreille County

Boundary Hydroelectric Project, 1198 Boundary Dam Access Rd., Metaline vicinity, SG100002394

WISCONSIN

Washington County

Barton Elementary School, 614 School Pl., West Bend, SG100002395

Nominations submitted by Federal Preservation Officers:

The State Historic Preservation Officer reviewed the following nominations and responded to the Federal Preservation Officer within 45 days of receipt of the nominations and supports listing the properties in the National Register of Historic Places.

MICHIGAN

Wayne County

U.S. Post Office, Court House, and Custom House, 231 W Lafayette Blvd., Detroit, SG100002381

WYOMING

Carbon County

Medicine House Site, Address Restricted, Hanna vicinity, SG100002396

Authority: Section 60.13 of 36 CFR part 60.

Dated: March 28, 2018.
J. Paul Loether,
Chief, National Register of Historic Places/National Historic Landmarks Program and Keeper, National Register of Historic Places.

[FR Doc. 2018-07548 Filed 4-11-18; 8:45 am]

BILLING CODE 4312-52-P